DEPARTMENT OF ENERGY

Federal Energy Regulatory Commission

[Docket No. ER11-3322-000]

PJM Interconnection, L.L.C.; Supplemental Notice of Staff Technical Conference

On June 21, 2011, the Federal Energy Regulatory Commission (Commission) announced that a staff Technical Conference on Performance Measurement of Demand Response in the PJM Capacity Market will be held on July 29, 2011, beginning at 9 a.m. (EDT) in the Commission Meeting Room at the Commission's headquarters, located at 888 First Street, NE., Washington, DC 20426. The technical conference will be led by Commission staff, and Commissioners may be in attendance. The conference will be open for the public to attend and advance registration is not required.

Attached to this supplemental notice is an agenda for the conference. If any changes are made, the revised agenda will be posted prior to the event on the Calendar of Events on the Commission's Web site, http://www.ferc.gov.

The conference will be transcribed. Transcripts will be available immediately for a fee from Ace Reporting Company (202-347-3700 or 1-800-336-6646). A free webcast of this event is also available through http://www.ferc.gov. Anyone with Internet access who desires to view this event can do so by navigating to http://www.ferc.gov's Calendar of Events and locating this event in the calendar. The event will contain a link to its webcast. The Capitol Connection provides technical support for the free webcasts. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

Parties seeking additional information regarding this conference should contact Tristan Cohen at Tristan.Cohen@ferc.gov or (202) 502-6598.

Dated: July 22, 2011.
Nathaniel J. Davis, Sr.,
Deputy Secretary.

Appendix

Performance Measurement of Demand Response in the PJM Capacity Market; ER11-3322-000

July 29, 2011

Agenda

9 a.m.-9:15 a.m. Greeting and Opening Remarks

9:15 a.m.-11:15 a.m. Discussion on Reliability Issues

1. Whether the customer baseline load (CBL) or peak load contribution (PLC) is a more accurate capacity market performance measure of what a demand response customer would have consumed in the absence of an instruction to reduce load.

2. Whether the current PJM add-back process under the guaranteed load drop (GLD) option, which is used to calculate peak load for capacity for the following delivery year, accurately reflects the fact that the load reduction of an over-performing demand response customer (i.e. a customer that provides a level of response greater than the MW nominated for it in the capacity auction) has been used to support an under-performing customer (i.e. a customer that provides a level of response less than the nominated MW) in a portfolio aggregated to meet the capacity commitment.

3. Whether PJM dispatchers account for PLCs during an emergency.

4. Whether any load in PJM can be at load levels in excess of PLC during an emergency.

Panelists

• Chris Norton, Director of Regulatory Affairs, American Municipal Power Inc.

• Frank Lacey, Vice President Regulatory, Markets and Government Relations, Comverge, Inc.

• Bruce Campbell, Director of Regulatory Affairs, Demand Response Services, Johnson Controls, Inc.

• Marie Pieniazek, Chief Operating Officer, Energy Curtailment Specialists

• Donald J. Sipe, Attorney, Preti Flaherty Beliveau & Pachios LLP representing EnerNOC, Inc.

Dr. Joseph E. Bowring, Market Monitor, Independent Market Monitor for PJM

Frederick (“Stu”) Bresler, Vice President—Market Operations and Demand Resources, PJM Interconnection, L.L.C.

11:15 a.m.-11:30 p.m. Break

11:30 a.m.-12:30 p.m. Discussion on Capacity Obligations

5. Discuss the capacity obligations of end-use customers whose demand response resources have been committed in a prior RPM auction.

6. Whether a demand response resource should be obligated to reduce below its PLC during an emergency event, even if the magnitude of supply that the resource is providing is otherwise equivalent to its capacity commitment.

7. Whether the PLC limit on nominations in the capacity auction should serve as a basis for requiring load reductions of capacity resources to be below PLC.

Panelists

Chris Norton, Director of Regulatory Affairs, American Municipal Power Inc.

Donald J. Sipe, Attorney, Preti Flaherty Beliveau & Pachios LLP representing EnerNOC, Inc.

Dr. Joseph E. Bowring, Market Monitor, Independent Market Monitor for PJM

Frederick (“Stu”) Bresler, Vice President—Market Operations and Demand Resources, PJM Interconnection, L.L.C.

Robert A. Weishaar, Jr., Counsel to PJM Industrial Customer Coalition, McNees, Wallace & Nurick LLC

Audrey Zibelman, President, Chief Executive Officer, and Founder, Viridity Energy, Inc.

12:30 p.m.-1:15 p.m. Lunch Break

1:15 p.m.-2:15 p.m. Discussion on Load Reductions and Incentives

8. Whether the same MW reduction that is voluntarily made by a peak shaving customer in order to reduce capacity costs should also be eligible to receive incentives from PJM's Load Management programs.

9. Whether the current GLD option provides an incentive for aggregators to offset under-performing resources with resources that over-perform.

Panelists

Chris Norton, Director of Regulatory Affairs, American Municipal Power Inc.

Kevin Evans, VP & GM, Demand Response Services, Johnson Controls, Inc.

Jonathan Falk, Vice President, NERA Economic Consulting representing EnerNOC, Inc.

Dr. Joseph E. Bowring, Market Monitor, Independent Market Monitor for PJM

Andrew L. Ott, Senior Vice President—Markets, PJM Interconnection, L.L.C.

Audrey Zibelman, President, Chief Executive Officer, and Founder, Viridity Energy, Inc.

2:15 p.m.-2:30 p.m. Break

2:30 p.m.-3:30 p.m. Discussion on the Impact of PJM's Proposal

10. Whether PJM's proposal undermines the GLD methodology.

11. Whether PJM's proposal unduly discriminates against resources on days other than the coincident peak days and whether PJM's proposal negatively affects Annual Demand Resource aggregations.

Panelists

John Rossi, Senior Vice President of Business Development, Comverge, Inc.

David Dardis, Constellation

Marie Pieniazek, Chief Operating Officer, Energy Curtailment Specialists

Kenneth D. Schisler, Vice President of Regulatory Affairs, EnerNOC, Inc.

Dr. Joseph E. Bowring, Market Monitor, Independent Market Monitor for PJM

Andrew L. Ott, Senior Vice President—Markets, PJM Interconnection, L.L.C.

Audrey Zibelman, President, Chief Executive Officer, and Founder, Viridity Energy, Inc.

[FR Doc. 2011-19087 Filed 7-27-11; 8:45 am]

BILLING CODE 6717-01-P